FEDERAL COMMUNICATIONS COMMISSION

Notice of Public Information Collection(s) Being Submitted to OMB for Review and Approval

November 21, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 2, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0392.

Title: 47 CFR 1 Subpart J, Pole Attachment Complaint Procedures.

Form Number: N/A.

Type of Review: Revision of a currently approved collection.

Respondents: Business or other for-profit entities; and State, local, or tribal government.

Number of Respondents: 1,381.

Estimate Time Per Response: 0.5 to 35 hours.

Frequency of Response: On occasion reporting requirements; Third party disclosure.

Total Annual Burden: 3,047.

Total Annual Costs: $267,000.

Needs and Uses: Licensees/permittees/applicants use FCC Form 346 when applying for authority to construct or make changes in a Low Power Television, TV Translator, or TV Booster broadcast station. Applicants are subject to the third party disclosure requirement of 47 CFR Section 73.3580. Within 30 days of tendering of the application, applicants are required to publish a notice in a newspaper of general circulation when filing all applications for new or major changes in facilities'the notice to appear at least twice weekly for two consecutive weeks in a three week period. In addition, a copy of the notice must be maintained along with the application. The Commission uses FCC Form 346 to determine if an applicant is qualified, meets basic statutory and treaty requirements, and will not cause interference to other authorized broadcast services.

OMB Control Number: 3060-0757.

Title: FCC Auctions Customer Survey.

Form Number: N/A.

Type of Review: Extension of a currently approved collection.

Respondents: Business or other for-profit entities; and Individuals or households.

Number of Respondents: 2,000.

Estimate Time Per Response: 0.25 hours (15 mins.).

Frequency of Response: On occasion reporting requirements.

Total Annual Burden: 500.

Total Annual Costs: None.

Needs and Uses: Section 309(j) of the Communications Act requires that FCC, under appropriate circumstance, to test various methodologies for conducting competitive bidding. By seeking input from auction participants through the use of the FCC Auction Customer Survey, the Commission expects to gather information to evaluate the operation of competitive bidding methodologies used to date, and to improve the competitive bidding methodologies used in future auctions.

OMB Control Number: 3060-0599.

Title: Implementation of Sections 3(n) and 332 of the Communications Act.

Form Number: N/A.

Type of Review: Revision of a currently approved collection.

Respondents: Business or other for-profit entities; and State, local, or tribal government.

Number of Respondents: 45.

Estimate Time Per Response: 1.66 hours.

Frequency of Response: On occasion reporting requirements.

Total Annual Burden: 75 hours.

Total Annual Costs: None.

Needs and Uses: This information collection will create regulatory symmetry among similar mobile services. This symmetrical regulatory structure will promote competition in the mobile services marketplace and will serve the interests of consumers while also benefiting the national economy.

Federal Communications Commission.
Magalie Roman Salas,
Secretary.

[FR Doc. 00-30642 Filed 11-30-00; 8:45 am]

BILLING CODE 6712-01-P